DEPARTMENT OF HEALTH AND HUMAN SERVICES

Health Resources and Services Administration

Alliance for Innovation on Maternal and Child Health Cooperative Agreement

AGENCY: Health Resources and Services Administration (HRSA), Department of Health and Human Services (HHS).

ACTION: Notice of Single-Case Deviation from Competition Requirement for the Alliance for Innovation on Maternal and Child Health Cooperative Agreement at the Association of State and Territorial Health Officials, Grant Number UC4MC28036.

SUMMARY: HRSA announces the award of a program expansion supplement in the amount of $100,000 for the Alliance for Innovation on Maternal and Child Health (AIM) cooperative agreement. The purpose of the AIM cooperative agreement, as stated in the funding opportunity announcement (FOA), is to expand access to care for the maternal and child health (MCH) populations through the following program focus areas: (1) Ensuring continuity of coverage and care for pregnant women and children; (2) improving systems of care for children with special health care needs; and (3) promoting the use of Bright Futures Guidelines for all children. The program expansion supplement will provide funds to the Association of State and Territorial State Health Officials (ASTHO), the cooperative agreement awardee, during the budget period of September 30, 2015, through September 29, 2016, to provide targeted technical assistance to two States at risk for rapid transmission of HIV and Hepatitis C virus (HCV) through injection drug use, to build capacity and expand access to care, document and share best practices with other State Health Officials also seeking to prevent HIV and HCV infection through injection drug use.

SUPPLEMENTARY INFORMATION: Intended Recipient of the Award: The Association of State and Territorial Health Officials

Amount of the Non-Competitive Award: $100,000

CFDA Number: 93.110

Current Project Period: 9/30/2014-9/29/2017

Period of Supplemental Funding: 9/30/2015-9/29/2016

Authority: Social Security Act, Title V, § 501(a)(2) (42 U.S.C. 701(a)(2)).

Justification: On April 24, 2015, the Governor of Indiana declared a public health disaster emergency in Scott County, Indiana, attributable to the HIV epidemic in that county. On the same day, the Centers for Disease Control and Prevention issued a Health Alert Network Advisory to inform other public health departments and healthcare providers of the possibility of HIV outbreaks among persons who inject drugs and to provide guidance to assist in the identification and prevention of such outbreaks. As of August 28, 2015, the Indiana outbreak is now 181 (177 confirmed and 4 presumptive positive) adult and adolescent HIV infections, including a small number of pregnant women. Though there are HIV prevention best practices to inform States, additional innovative practices are needed to reach women of child-bearing age, adolescents, and young adults within high risk counties, which do not routinely access health care.

As stated in the FOA, the Alliance for Innovation on Maternal and Child Health (AIM) is a Maternal and Child Health Bureau (MCHB) collaborative program of awardee organizations for the purpose of expanding access to care for the maternal and child health (MCH) populations. Per the FOA, AIM Collaborative Engagement awardees are responsible for engaging key State agencies and offices (i.e., Public Health and Medicaid) in AIM activities and raising awareness of best practices.

In 2014, following objective review of its application, HRSA awarded the Association of State and Territorial Health Officials (ASTHO) cooperative agreement funding as an AIM Collaborative Engagement program. If approved, this would be the first program expansion supplement for this cooperative agreement.

ASTHO is the national nonprofit organization representing public health agencies in the United States, the U.S. Territories, the District of Columbia, and over 100,000 public health professionals these agencies employ. As part of its AIM cooperative agreement, ASTHO identifies and disseminates best practices to meet the needs of MCH populations. At the time of the FOA and application, expanding access to care among high risk populations to prevent HIV infection through injection drug use was not yet identified as a need of MCH populations. As such, the FOA and application did not address it.

To meet this emerging need, ASTHO submitted a prior approval request to expand the scope of its AIM cooperative agreement award to work with States at risk for rapid transmission of HIV and HCV through injection drug use. ASTHO, working with MCHB, would provide targeted technical assistance to two states to build capacity and expand access to care among high risk populations to prevent HIV and HCV infection through injection drug use. ASTHO would also document and share best practices and other technical assistance resources from the two targeted states to its network of State Health Officials.

FOR FURTHER INFORMATION CONTACT: Sylvia Sosa, MSc, Office of Policy and Planning, Maternal and Child Health Bureau, Health Resources and Services Administration, 5600 Fishers Lane, Room 18W25D, Rockville, Maryland 20857; ssosa@hrsa.gov.

Grantee/organization name | Grant number | State | FY 2015 Authorized funding level | FY 2015 Estimated supplemental funding
The Association of State and Territorial Health Officials | UC4MC28036 | VA | $350,000 | $100,000

Dated: September 11, 2015.
James Macrae,
Acting Administrator.

[FR Doc. 2015-23357 Filed 9-16-15; 8:45 am]

BILLING CODE 4165-15-P